FEDERAL COMMUNICATIONS COMMISSION

Public Information Collections Approved by Office of Management and Budget

June 26, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0895.

Expiration Date: 12/31/2000.

Title: Numbering Resources Optimization, CC Docket No. 99-200.

Form No.: FCC Form 502.

Respondents: Business or other for-profit; State, Local or Tribal Government.

Estimated Annual Burden: 2780 respondents; 57 hours per response (avg.); 158,500 total annual burden hours.

Estimated Annual Reporting and Recordkeeping Cost Burden: $6,490,000.

Frequency of Response: On occasion; Semi-annually; One-time requirement; Recordkeeping; Third Party Disclosure.

Description: The ten digit North American Numbering Plan currently being used by the United States and 19 other countries is rapidly being depleted. Management of this resource is impaired by a lack of uniform data. Under the Communications Act of 1934, as amended, the FCC was given “exclusive jurisdiction over those portions of the North American Numbering Plan that pertain to the United States.” Pursuant to that authority the Commission conducted a rulemaking that among other things addressed regular reporting on numbering use by United States carriers. In its Report and Order in CC Docket No. 99-200, In the Matter of Numbering Resource Optimization (rel. Mar. 31, 2000) the Commission found that mandatory data collection is necessary to efficiently monitor and manage numbering use. Requirements adopted in the Report and Order include the following: (a) Utilization/Forecast Report—All carriers that receive numbering resources from the NANPA or that receive numbering resources from a Pooling Administrator in thousands blocks must report forecast and utilization data semi-annually to the NANPA. Carriers that receive intermediate numbers must report forecast and utilization data. Mandatory reporting begins August 1, 2000. See also 47 CFR Section 52.15(f). (No. of respondents: 2700; hours per response: 24 hours per semi-annual filing; total annual burden: 129,600 hours). (b) Application for Initial Numbering Resources—Applications for initial numbering resources must include documented proof that (1) the applicant is authorized to provide service in the area for which the numbering resources are requested and (2) the applicant is or will be capable of providing service within 60 days of the numbering resources activation date. Specifically, carriers must provide, as part of the applications for initial numbering resources, evidence (e.g., state commission order or state certification to operate as a carrier) demonstrating that they are licensed and/or certified to provide service in the area in which they seek numbering resources. Carriers requesting initial numbering resources must also provide the NANPA appropriate evidence (e.g., contracts for unbundled network elements, network information showing that equipment has been purchased and is operational or will be operational, business plans, or interconnection agreements) that its facilities are in place or will be in place to provide service within 60 days of the numbering resources activation date. These requirements apply to carriers requesting an initial NXX code and those requesting an initial thousands-block. See 47 CFR Section 52.15(g). (No. of respondents: 2730; hours per response: 2 hours; total annual burden: 5460 hours). (c) Application for Growth Numbering Resources—Applications for growth numbering resources must include a Months-To-Exhaust (MTE) worksheet. To ensure that carriers obtain numbering resources when and where they are needed to provide service, carriers are required to provide evidence that, given their current utilization and recent historical growth, they need additional numbering resources. Non-pooling carriers must satisfy a minimum utilization threshold before obtaining additional numbering resources. See 47 CFR Section 52.15(g). (No. of respondents: 2730; hours per response: 2 hours; total annual burden; 5460 hours). (d) Recordkeeping Requirement—To facilitate auditing by the NANPA and by state commissions in the future, carriers are required to maintain detailed internal records of their number usage in categories more granular than the five for which they are required to report. Carriers are required to maintain internal records of their numbering resources for the following subcategories: soft dialtone numbers; ported-out numbers; dealer number pools; test numbers; employee/official numbers; Local Routing Numbers; Temporary Local Directory Numbers; and wireless E911 emergency services routing digits/key numbers. Carriers are required to maintain this data for a period of not less than 5 years. See also Report and Order, para. 62. (No. of respondents: 2730; hours per response: 1 hour; total annual burden: 2730 hours). (e) Notifications by State Commissions—State commissions may reduce the reporting frequency for NPAs in their states to annual. State commissions must notify the Common Carrier Bureau and the NANPA prior to exercising this delegated authority. See 47 CFR Section 52.15(g). State commissions are permitted to substitute the NPA listed in the rollout schedule with an alternative NPA, as long as the substitute NPA has a life span of at least one year and is located within one of the top 100 MSAs. To exercise this option, the state must inform the thousands-block NPA within 15 days of the release of the roll out schedule for that quarter. (No. of respondents: 50; hours per response: 1 hour; total annual burden: 50 hours). (f) Demonstration to State Commission—Carriers that open a clean block prior to utilizing in its entirety a previously-opened thousands-block should be prepared to demonstrate to the state commission: (1) A genuine request from a customer detailing the specific need for telephone numbers; (2) the inability on the part of the carrier to meet the specific customer request for telephone numbers from the surplus of numbers within the carrier's currently activated thousands-block. See 47 CFR 52.15(j). (No. of respondents: 100; hours per response: 1 hour; total annual burden: 100 hours). (g) Petitions for Additional Delegation of Numbering Authority—States requesting pooling authority must include a showing of specific criteria in their petitions. Each petition must demonstrate that: (1) That an NPA in its state is in jeopardy, (2) the NPA in question has a remaining life span of at least a year, and (3) that NPA is in one of the largest 100 MSAs, or alternatively, the majority of wireline carriers in the NPA are LNP-capable. See also Report and Order, para. 170. (No. of respondents: 50; hours per response: 2 hours; total annual burden: 100 hours). (h) Cost Support Data—Carriers are requested to submit cost support data so that the Commission can determine the cost associated with thousands-block number pooling. Carriers should include an analysis of the differences between the shared industry costs associated with thousands-block number pooling and the shared industry costs, if any, associated with the current practices that result in more frequent area code changes. Carriers should provide cost studies that assign costs according to the following three categories: shared industry costs; carrier-specific costs directly related to thousands/block pooling; and carrier-specific costs not directly related to thousands-block number pooling. See Report and Order, paras. 215-226. (No. of respondents: 1500; hours per response: 10 hours; total annual burden: 15,000 hours). The data collected will be used by the FCC, state regulatory commissions, and the North American Numbering Plan administrator (NANPA) to monitor numbering resource utilization by all carriers using the resource and to project the dates of area code and North American Numbering Plan exhaust. Obligation to respond: Mandatory. Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-16818 Filed 7-3-00; 8:45 am]

BILLING CODE 6712-01-P